DEPARTMENT OF COMMERCE

International Trade Administration

International Framework for Nuclear Energy Cooperation Finance/Regulatory/Energy Planning Authority Workshop October 22 in Abu Dhabi, UAE

AGENCY: International Trade Administration, Department of Commerce.

ACTION: Notice.

SUMMARY: The United States Department of Commerce, International Trade Administration.

Event Description

The U.S. Department of Commerce's International Trade Administration (ITA) is coordinating with the U.S. Department of Energy—the lead U.S. agency for the International Framework for Nuclear Energy Cooperation (IFNEC)—to organize participation by representatives of U.S. industry in the IFNEC Finance, Regulatory, and Energy Planning Authority Workshop, to be held on October 22, 2013 in Abu Dhabi, United Arab Emirates (UAE), prior to the IFNEC Steering Group and Executive Committee meetings. IFNEC is an international forum consisting of 63 countries ranging from those with emerging and existing nuclear power programs to those in the process of phasing out nuclear power programs. This workshop is designed to facilitate a more focused dialogue directed at understanding the challenges that financing presents for countries that are beginning to develop nuclear power projects, while maintaining respect for independence in sovereign decision-making. ITA is seeking the participation of a minimum of 15 U.S. companies or trade associations in the civil nuclear sector in the IFNEC Workshop. The IFNEC Workshop's scenario-based interactive dialogue will provide an opportunity for member country policymakers and other participants to benefit from the viewpoints of the U.S. civil nuclear industry and for U.S. industry to be able to learn more about the policies, regulatory landscape, and energy planning of the participating countries of IFNEC.

Event Setting

The IFNEC Workshop is an event to bring together IFNEC member country representatives and key stakeholders involved in the financing of nuclear power projects, including national energy planning authorities, nuclear regulatory institutions, energy market regulators, financial institutions, utilities and others, as well as U.S. nuclear industry representatives. The workshop will focus on enhancing IFNEC's understanding of the role and interests of, and interactions between, these key stakeholders in the financing of nuclear power projects in emerging market countries.

IFNEC is led by an Executive Committee, which is made up of ministerial-level officials or their designees from Participant Countries and Organizations that meet annually to set the agenda for the Forum for the coming year. Observer Countries and Organizations are welcome and encouraged to attend. The IFNEC Executive Committee accepted the Final Summary Report of the 2012 London IFNEC Finance Workshop at its October 2012 meeting in Morocco, and proposed that IFNEC organize a follow-on workshop in 2013. The IFNEC Finance Workshop Summary Report is available at http://www.ifnec.org/Meetings/Workshops/FinanceWorkshop2012.aspx. Abu Dhabi's Regulation and Supervision Bureau will host the IFNEC Workshop. The workshop builds on the outcomes of the 2012 London IFNEC Finance Workshop, which highlighted the importance of (1) An effective and independent nuclear regulator, (2) government commitment and support, and (3) a sound business plan. This workshop will be designed to facilitate a more focused dialogue directed at understanding the challenges that financing presents for countries embarking on the development of nuclear power projects, while maintaining respect for sovereign decision-making.

Participants in this IFNEC Workshop will hear the unique perspectives of the financing community, project proponents, regulatory bodies, national energy planning authorities and other stakeholders regarding the challenges and opportunities related to nuclear power project financing in an emerging market country. In particular, this IFNEC Workshop will follow-up on the key findings from the London IFNEC Finance Workshop. The IFNEC Workshop will focus on the critical, but not well understood, relationships between financing and the independence and experience base of the nuclear regulatory authorities, with responsibilities in not only nuclear safety, but security and safeguards as well. Another focal point will be the important roles that electric market regulators, and power purchase agreements, are playing today in the financing of nuclear power projects in emerging market countries. Although taking place over only one day, the workshop will cover as many of these central topics as possible, while still recognizing certain elements may emerge that require further investigation.

Event Scenario

Workshop format

The IFNEC Workshop will provide a dynamic forum in which experts representing a broad spectrum of key stakeholders will engage in a moderated exercise to address a hypothetical scenario related to the financing of a nuclear power project in a country with an emerging nuclear power program. Following the scenario exercise, key experts will lead focused, participatory dialogues among groups of IFNEC Workshop attendees to further address specific issues and responses to the scenario-based exercise. The interactions in the breakout groups will help IFNEC Workshop attendees gain a better understanding of how the financing community, project proponents, regulatory bodies, national energy planning authorities and other stakeholders affect the process of nuclear energy financing. The overall goal of the workshop is to identify practical actions that IFNEC countries, individually or collectively, could take to promote identified opportunities and to address the identified challenges to nuclear energy financing, especially in regards to emerging market countries.

Workshop topics

• Explore the importance of an effective, independent regulator for securing nuclear power plant financing. The expert panelists will address the question of: “How can the financial community evaluate, as part of its due diligence, the independence and effectiveness of a safety regulator?”

The Characteristics to be explored include:

—Underlying framework/legislation/regulation

—Personnel qualifications and experience/organizational effectiveness

—Programs for sharing best practices and on-going peer-to-peer learning opportunities

—Role of transparency

• Explore the role that electricity market regulation, including sales/rate commitments, plays in the financing of a nuclear project. The expert panelists will address the question of: “How can electric market regulation support the financing of a nuclear power project?”

IFNEC Workshop participants will explore:

—The evolving current trends and approaches in electric market regulation, including power purchase agreements

—The role of government and governments guarantees

—How these market commitments fit into broader energy and environmental policy development, including the role of renewable incentives/subsidies

Date and Proposed Agenda

October 22

8:00-9:00 a.m. Registration and Coffee

9:00-9:45 a.m. Welcome and Introduction

9:45-10:20 a.m. Goals and Introductions

10:20-10:50 a.m. Scenario Presentation

11:05-12:30 p.m. Interactive Moderated Scenario-Based Exercise by Expert Panel Lunch *

1:30—1:45 p.m. Introduction to Break-Out Sessions Process and Topics (by Moderator)

1:45—3:00 p.m. Break-Out Sessions

3:20—4:20 p.m. Break-Out Sessions Reports and Facilitated Review Panel Comments/Suggestions

4:20—5:00 p.m. Summarize Findings with Opportunity for Facilitated Input from Plenary Concluding Remarks and Closing of IFNEC Workshop Reception & Dinner *

* During the IFNEC Workshop the lunch, reception and dinner will be provided by the host country.

Event Goals

In organizing U.S. civil nuclear industry participation in the upcoming IFNEC Workshop, the ITA intends to give IFNEC Participant Countries the opportunity to hear the views and perspectives of the U.S. industry in this sector and for industry representatives to have the opportunity to showcase their knowledge and experience with nuclear project financing to the IFNEC Participant Countries. Participants in this workshop will benefit from the expertise that the U.S. industry has amassed in this sector and may potentially learn how to better partner with U.S. industry on nuclear power projects in the future, thus leading to greater U.S. exports. U.S. participants will also have the opportunity to network, build relationships in the global civil nuclear sector and learn more about current and future project opportunities.

Participation Requirements

All parties interested in participating in the IFNEC Workshop must complete and submit an application package for consideration by the ITA. All applicants will be evaluated based on their ability to meet certain conditions and best satisfy the selection criteria as outlined below. A minimum of 15 applicants will be selected to participate in the IFNEC Workshop from the applicant pool of U.S. companies and trade associations. Only companies or trade associations representing companies that are already doing business internationally may apply. Applications will be reviewed on a rolling basis in the order that they are received.

Fees

After a company or trade association has been selected to participate in the IFNEC Workshop, the IFNEC Steering Group Chair will send out a formal invitation. There is NO participation fee associated with attending the IFNEC Workshop. However, participants will be responsible for personal costs associated with lodging, most meals, incidentals, local ground transportation, air transportation from the United States to the event location, and return to the United States. The Abu Dhabi's Regulation and Supervision Bureau host will provide for the lunch, reception and dinner.

Conditions for Participation

Applicants must submit to ITA's staff (see Contact) a completed mission application signed by a company official, together with supplemental application materials addressing how he/she satisfies the selection criteria listed below by August 23, 2013. If the ITA receives an incomplete application, then it may be rejected or ITA may request additional information.

In question 11 of the trade event application, each applicant is asked to certify that the products and services it intends to export through the trade event are either manufactured or produced in the United States, or, if not, are marketed under the name of a U.S. firm and have U.S. content representing at least fifty-one percent of the value of the finished good or service. If applicants find this certification difficult to make in the context of this event, or are unsure of whether they can certify to this, we encourage them to indicate on the application form why the applicant's company should be considered for participation in the event, what experience or expertise the company can contribute to the event discussions, and how the company's goals and objectives are consistent with the purpose of the event.

In the case of a trade association, the applicant must certify that as part of its activities in this event, it will represent the interests of members meeting the criteria discussed in the previous paragraph or provide an explanation of the type described in the previous paragraph.

Selection Criteria for Participation

Selection will be based on the following criteria:

• The applicant's experience producing technology or providing services to civil nuclear energy projects or, in the case of a trade association, the experience of its members;

• The extent and depth of the applicant's activities in the global civil nuclear energy industry;

• The applicant's company or, in the case of a trade association, the association's members' potential for, or interest in, doing business with IFNEC member countries;

• The applicant's ability to identify and discuss policy issues relevant to U.S. competitiveness in the nuclear energy sector, with special emphasis on financing; and

• Consistency of the applicant's company or trade association's goals and objectives with the stated scope of the IFNEC Workshop.

Referrals from political organizations and any documents containing references to partisan political activities (including political contributions) will be removed from an applicant's submission and not considered during the selection process.

Selected applicants will be asked to sign a Participation Agreement with the Department of Commerce which includes the following mandatory certifications (applicants that cannot attest to these certifications cannot participate):

Certify that the products and services that it intends to highlight as examples at the workshop would be in compliance with U.S. export controls and regulations;

• Certify that it has identified to the Department of Commerce for its evaluation any business pending before the Department that may present the appearance of a conflict of interest;

• Certify that it has identified any pending litigation (including any administrative proceedings) to which it is a party that involves the Department of Commerce; and

• Certify that it and its affiliates (1) have not and will not engage in the bribery of foreign officials in connection with a company's/participant's involvement in this mission, and (2) maintain and enforce a policy that prohibits the bribery of foreign officials.

Timeframe for Recruitment and Participation

Recruitment for participation in the IFNEC Workshop as a representative of the U.S. nuclear industry will be conducted in an open and public manner, including publication in the Federal Register, posting on the Commerce Department trade mission calendar, notices to industry trade associations and other multiplier groups. Recruitment will begin immediately and conclude no later than August 23, 2013. The ITA will review applications and make selection decisions on a rolling basis beginning on or about August 23, 2013. Applications received after August 28, 2013 will be considered only if space and scheduling permit.

FOR FUTHER INFORMATION CONTACT: Michelle Scott, Senior Policy Advisor, MAS-Office of Energy and Environmental Industries, International Trade Administration, Department of Commerce, Phone: (202)-482-3851, Email: Michelle.Scott@trade.gov.

Elnora Moye,
Trade Assistant.

[FR Doc. 2013-19761 Filed 8-14-13; 8:45 am]

BILLING CODE 3510-FP-P